DEPARTMENT OF TRANSPORTATION

Federal Motor Carrier Safety Administration

[Docket No. FMCSA-2020-0062]

Marking of Commercial Motor Vehicles; Application for an Exemption From Adirondack Trailways, Pine Hill Trailways, and New York Trailways

AGENCY: Federal Motor Carrier Safety Administration (FMCSA), Department of Transportation (DOT).

ACTION: Notice of provisional renewal of exemption; request for comments.

SUMMARY: FMCSA announces its decision to provisionally renew an exemption for Adirondack Transit Lines, Inc. (dba Adirondack Trailways), Pine Hill-Kingston Bus Corp. (dba Pine Hill Trailways), and Passenger Bus Corp. (dba New York Trailways) from FMCSA's commercial motor vehicle (CMV) marking rules under certain circumstances involving exchange, or interchange, of equipment and/or drivers. The provisional exemption renewal is limited to six months. After a review of the public comments to this notice, FMCSA will issue a decision whether the exemption should be renewed through May 2030.

DATES: The provisional renewal of the exemption is effective from May 28, 2025, and expires on November 28, 2025. Comments must be received on or before July 3, 2025.

ADDRESSES: You may submit comments identified by Federal Docket Management System Number FMCSA-2020-0062 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, Washington, DC 20590-0001 between 9 a.m. and 5 p.m. E.T., Monday through Friday, except Federal holidays.

• Fax: (202) 493-2251.

Each submission must include the Agency name and the docket number for this notice (FMCSA-2020-0062). Note that DOT posts all comments received without change to www.regulations.gov, including any personal information included in a comment. Please see the Privacy Act heading below.

Privacy Act: In accordance with 49 U.S.C. 31315(b)(6), DOT solicits comments from the public on the exemption renewal request. DOT posts these comments, including any personal information the commenter provides, to www.regulations.gov, as described in the system of records notice (DOT/ALL-14 FDMS), which can be reviewed under the “Department Wide System of Records Notices” at www.dot.gov/privacy/privacy-act-system-records-notices. The comments are searchable by the name of the submitter and are posted without edit.

FOR FURTHER INFORMATION CONTACT: La Tonya Mimms, Driver and Carrier Operations Division; Office of Carrier, Driver and Vehicle Safety Standards; FMCSA; latonya.mimms@dot.gov or (202) 366-9220. If you have questions on viewing or submitting material to the docket, contact Dockets Operations, (202) 366-9826.

SUPPLEMENTARY INFORMATION:

I. Public Participation and Request for Comments

FMCSA encourages you to participate by submitting comments and related materials.

A. Submitting Comments

If you submit a comment, please include the docket number for this notice (FMCSA-2020-0062), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov, insert the docket number (FMCSA-2020-0062) in keyword box, and click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov insert FMCSA-2020-0101 in the keyword box, select the document tab and choose the document to review. To view comments, click this notice, then click “Browse Comments.” If you do not have access to the internet, you may view the docket online by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews the application, safety analyses, and the public comments and determines whether granting the exemption would likely achieve a level of safety equivalent to, or greater than, the level that would be achieved absent such exemption, pursuant to the standard set forth in 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

The vehicle marking requirements of 49 CFR 390.21(b)(3) are satisfied if the vehicle is marked with a single placard, sign, or other device affixed to the right (curb) side of the vehicle on or near the front passenger door. The placard, sign, or device must display the legal name or a single trade name of the motor carrier operating the CMV and the motor carrier's USDOT number, preceded by the words “Operated by.”

Application for Renewal of Exemption

Adirondack Trailways, Pine Hill Trailways, and New York Trailways are a commonly owned passenger service that interchanges buses and drivers more than ten thousand times a year. The frequency with which their motorcoaches are involved in interchange arrangements makes it difficult to comply with 49 CFR 390.21(b)(3). This is especially the case when the interchanges happen on short notice and in remote locations. The applicants describe their operation as “spontaneous, ever-changing and unpredictable.” The cooperative arrangement promotes intercity bus travel by offering passengers a seamless network of service among the passenger carriers. The applicants noted the termination on June 1, 2022, of their longstanding agreement for revenue pooling and interchange arrangement with Greyhound Lines, Inc.

The applicants are requesting renewal of their exemption from 49 CFR 390.21(b)(3), which would apply to exchanges among the applicants as well as other passenger carriers subject to a lease agreement with the applicants.

FMCSA initially granted an exemption to Adirondack Trailways, Pine Hill Trailways, and New York Trailways, on June 1, 2020 (85 FR 33272). This exemption was effective on June 1, 2020, and expires on May 28, 2025. That notice described the nature of Adirondack Trailways, Pine Hill Trailways, and New York Trailways business operations. A copy of the 2020 exemption is available for review in the docket for this notice.

IV. Grant of Provisional Renewal of Exemption

FMCSA determined in 2020 that the exemption was likely to achieve a level of safety that is equivalent to, or greater than, the level of safety that would be obtained in the absence of the exemption, as required by 49 U.S.C. 31315(b)(1).

This provisionally renewed exemption does not provide relief from a rule that could impact the safety performance of the commonly owned companies. They still bear full responsibility for compliance with the applicable safety regulations. Furthermore, provisionally renewing the exemption does not leave Federal and State safety enforcement personnel without a means of identifying the carrier responsible for the operation of a vehicle on a given trip, or a means of conducting compliance assurance activities.

From a safety equivalency perspective, each of the passenger carriers providing transportation services would continue to be subject to all regulations concerning on-road safety performance (e.g., driver licensing and qualifications, controlled substances and alcohol testing, inspection repair and maintenance, hours of service, etc.). Each passenger carrier would also continue to meet the financial responsibility requirements and maintain operating authority. In addition, each vehicle would display the name and USDOT number assigned to the owner/lessee of the passenger-carrying vehicle, with information about the responsible motor carrier readily available from the driver.

FMCSA provisionally renews the exemption for a period of six months, instead of the five years requested by the applicants, subject to the terms and conditions of this decision and the absence of adverse public comments that would cause the Agency to terminate the exemption. If, during that time, FMCSA does not receive evidence of insufficient safety under the exemption, the Agency anticipates granting a full five-year exemption on or before the provisional exemption expires. The exemption from the requirements of 49 CFR 390.21(b)(3) is effective from May 28, 2025, through November 28, 2025, 11:59 p.m. local time, unless revoked.

A. Applicability of Exemption

This provisional exemption renewal from 49 CFR 390.21(b)(3) is issued to Adirondack Transit Lines, Inc. (dba Adirondack Trailways); Pine Hill Bus Corp. (dba Pine Hill Trailways); and Passenger Bus Corp. (dba New York Trailways).

B. Terms and Conditions

The conditions of this exemption are as follows:

1. Passenger-carrying commercial vehicles display the name and USDOT number of the owner/lessee;

2. A document signed by at least one of the authorized carriers involved in the movement of the vehicle is kept in each vehicle operating under the exemption that provides (in electronic or paper format):

a. The registered name of each party to the agreement;

b. The USDOT number for each party to the agreement;

3. The passenger carrier named on the driver's record of duty status is the responsible motor carrier;

4. The owner/lessee and the responsible motor carrier cooperate with all Federal, State, and local enforcement officials to provide the identity of the operators of the passenger carrying vehicle.

The carrier and driver must comply with all other requirements of the Federal Motor Carrier Safety Regulations (49 CFR parts 350-399) and Hazardous Materials Regulations (49 CFR part 105-180).

C. Preemption

In accordance with 49 U.S.C. 31315(d), as implemented by 49 CFR 381.600, during the period this exemption is in effect, no State shall enforce any law or regulation applicable to interstate or intrastate commerce that conflicts with or is inconsistent with this exemption with respect to a firm or person operating under the exemption. States may, but are not required to, adopt the same exemption with respect to operations in intrastate commerce.

D. Notification to FMCSA

Adirondack Transit Lines, Inc. (dba Adirondack Trailways); Pine Hill Bus Corp. (dba Pine Hill Trailways); and Passenger Bus Corp. (dba New York Trailways) must notify FMCSA within 5 business days of any accident (as defined in 49 CFR 390.5), involving any of the motor carrier's CMVs operating under the terms of this exemption. The notification must include the following information:

a. Identifier of the Exemption: “Adirondack Transit Lines, Inc. (dba Adirondack Trailways); Pine Hill Bus Corp. (dba Pine Hill Trailways); and Passenger Bus Corp. (dba New York Trailways);”

b. Name of operating carrier and USDOT number;

c. Date of the crash;

d. City or town, and State, in which the accident occurred, or closest to the crash scene;

e. Driver's name and license number;

f. Co-driver's name (if any) and license number;

g. Vehicle number and State license number;

h. Number of individuals suffering physical injury;

i. Number of fatalities;

j. The police-reported cause of the crash, if provided by the enforcement agency;

k. Whether the driver was cited for violation of any traffic laws, motor carrier safety regulations; and

l. The total on-duty time accumulated during the 7 consecutive days prior to the date of the crash, and the total on-duty time and driving time in the work shift prior to the crash.

Reports filed under this provision shall be emailed to MCPSD@DOT.GOV.

E. Termination

FMCSA does not believe the drivers and carriers covered by this exemption will experience any deterioration of their safety record. However, the exemption will be rescinded if: (1) Adirondack Transit Lines, Inc. (dba Adirondack Trailways); Pine Hill Bus Corp. (dba Pine Hill Trailways); and Passenger Bus Corp. (dba New York Trailways) or the drivers operating under the exemption fail to comply with the terms and conditions of the exemption; (2) the exemption has resulted in a lower level of safety than was maintained before it was granted; or (3) continuation of the exemption would not be consistent with the goals and objects of 49 U.S.C. 31136(e) and 31315(b).

V. Request for Comments

In accordance with 49 U.S.C. 31315(b), FMCSA requests public comment from all interested persons on the application from Adirondack Trailways, Pine Hill Trailways, and New York Trailways for an exemption renewal. All comments received before the close of business on the comment closing date will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Sue Lawless,
Assistant Administrator.

[FR Doc. 2025-10042 Filed 6-2-25; 8:45 am]

BILLING CODE 4910-EX-P